DEPARTMENT OF TRANSPORTATION

Federal Highway Administration

[Docket No. FHWA-2006-25976]

Agency Information Collection Activities: Request for Comments for a New Information Collection

AGENCY: Federal Highway Administration (FHWA), DOT.

ACTION: Notice and request for comments.

SUMMARY: The FHWA invites public comments about our request for the Office of Management and Budget's (OMB) approval for a new information collection, which is summarized below under SUPPLEMENTARY INFORMATION. We are required to publish this notice in the Federal Register by the Paperwork Reduction Act of 1995.

DATES: Please submit comments by November 13, 2006.

ADDRESSES: You may send comments within 30 days to the Office of Information and Regulatory Affairs, Office of Management and Budget, 725 17th Street, NW., Washington, DC 20503, Attention: DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2006-25976.

FOR FURTHER INFORMATION CONTACT: James March, 202-366-9237, or William Linde, 202-366-9637, Office of Transportation Policy Studies, Federal Highway Administration, Department of Transportation, 400 Seventh Street, SW., Washington, DC 20590. Office hours are from 8 a.m. to 5 p.m., Monday through Friday, except Federal holidays.

SUPPLEMENTARY INFORMATION: Title: National Evaluation of a Mileage-Based Road User Charge.

Background: Section 1919 of The Safe, Accountable, Flexible, Efficient Transportation Equity Act: A Legacy for Users of 2005 (SAFETEA-LU) requires the Secretary of the Department of Transportation to submit annual reports and a final report to the Secretary of the Treasury, the Committee on Transportation and Infrastructure and the Committee on Ways and Means of the House of Representatives; the Committee on Environment and Public Works and the Committee on Finance of the Senate on the results of an analysis of highway vehicle mileage data collected to assess a mileage-based approach to collecting highway use fees. Specifically, the Act requires:

SEC. 1919. Road User Fees.

(a) STUDY.—The Secretary shall enter into an agreement with the Public Policy Center of the University of Iowa for an analysis and report to the Secretary and the Secretary of the Treasury on a long-term field test of an approach to assessing highway use fees based upon actual mileage driven by a specific vehicle on specific types of highways by use of an onboard computer—

(1) Which is linked to satellites to calculate highway mileage traversed;

(2) Which computes the appropriate highway use fees for each of the Federal, State, and local governments as the vehicle makes use of the highways;

(3) The data from which is periodically downloaded by the vehicle owner to a collection center for an assessment of highway use fees due in each jurisdiction traversed; and

(4) Which includes methods of ensuring privacy of road users.

The Secretary has assigned the execution and management of the agreement with the University of Iowa to the Office of Policy of the Federal Highway Administration. This study will include 200 participants in the first year and 250 participants in the second year in each of six geographic regions of the country who have been recruited through radio, television, and print media. Persons selected to participate in the field-testing will have agreed to have the necessary on-board computer technology installed in their personal vehicles for testing the mileage data collection technology. Field-testing will be conducted over 2 years with a new set of participants in each year, 1,200 in the first year and 1,500 in the second. The participants will be asked to provide information every 2 months over the course of their participation in the field test in order to collect data that provides for an analysis of participant opinion on different aspects of the field test, such as privacy of data, level of detail of data transmitted to collection center, billing transmittal, among others. The participants will have a choice of providing their information by means of telephone, internet, or printed survey.

The FHWA published notice of this new information collection and requested comments on the bi-monthly survey component of the study in the Federal Register [71 FR 38206, July 5, 2006]. This notice includes information on the recruitment and Global Positioning System installation that was omitted in the initial notice, as well as the information on the survey collection that was included in the initial notice.

In order to meet the requirements of the Study, the Public Policy Center must recruit and select field test participants. The recruitment effort will include advertising in radio, television, and print media seeking individuals to participate in the study. It is expected that in order to achieve the University of Iowa's goal of selecting a total of 2,700 individuals, 1,200 in the first year and 1,500 in the second, to participate in two field tests of 1 year each, the number of individuals responding to the recruitment effort will be 15,000. Of these, an estimated 12,000 will pass through the first qualification screen and therefore be eligible to become candidates for participating in the field study. Those eligible candidates selected to participate in the study will receive training on the study and their participation in it. It will be necessary to install on-board computer systems in the vehicles of those individuals selected to participate, and to remove the systems at the end of the individuals' participation in the study.

The transfer of data from the on-board computer system to the data collection center will be done remotely and require no action on the part of the field test participant.

The individuals selected to participate in the field testing will be asked to provide information every 2 months over the course of their participation in the field test in order to collect data that provides for an analysis of participant opinion on different aspects of the field test, such as privacy of data, level of detail of data transmitted to the collection center, billing transmittal, among others. The participants will have a choice of providing their information by means of telephone, internet, or printed survey.

Respondents: Approximately 6,625 respondents to the multi-media recruitment campaign are expected for the first year's effort and approximately 8,375 for the second year's effort—a total of approximately 15,000 for the two recruitment efforts.

Of the respondents to the recruitment campaigns, approximately 5,300 are expected to pass through the initial qualification screening in the first year, and therefore eligible to participate in the field testing, and approximately 6,700 in the second year, a total of approximately 12,000 over the 2-year field-testing period.

Approximately 1,200 field test participants in the first year of field testing and 1,500 in the second year for a total of approximately 2,700 over the 2-year field testing period will receive training on study participation prior to their entrance into the field-testing phase. They will have on-board computer systems installed in their vehicles at the beginning of their participation and removed at the conclusion of their participation. Over the course of the field-testing, participants will be surveyed once every 2 months, for a total of six collections from each over the course of their participation in the study.

Frequency: Each field test year's recruitment, selection, and training efforts will occur once, for a total of two efforts over the course of the study.

Each participant will have on-board computer systems installed in their vehicle once at the beginning of their participation and removed once from their vehicle at the conclusion of their participation.

Each participant will be surveyed once every 2 months, for a total of six collections over the course of their participation in the study.

Estimated Average Burden per Response: The average amount of time spent by a prospective field-test participant in responding to the multi-media recruitment campaign is expected to be 5 minutes. The average time for individuals proceeding to additional screening for inclusion in the study is expected to be 15 minutes. The total amount of time for each individual spent in the recruitment process for participants in the study is expected to be 20 minutes.

Respondents selected for inclusion in the study will spend 5 minutes on average scheduling the training session and the training session itself will last 60 minutes. The total amount of time for each individual spent in the training phase of the study is expected to be 65 minutes.

The average amount of time required for participants to make their vehicle available for installation of the on-board computer system is expected to be 90 minutes. The average amount of time for removal is expected to be 60 minutes. The total amount of time for each individual spent making their vehicle available for on-board system installation and removal is 150 minutes.

The average amount of time to respond to the first five bi-monthly survey collections over the course of the field study is 15 minutes. The average amount of time to respond to the exit survey collection at the end of the field study is 30 minutes. The average total time spent responding to surveys for participants over their involvement in the study is 105 minutes.

The total amount of time for a respondent not selected to participate in the study is expected to be 5 minutes.

The total amount of time spent by a field-test participant who completes the study is expected to be 340 minutes.

Estimated Total Annual Burden Hours: Approximately 552 hours in the first year and 698 in the second year for a total of 1,250 hours over the course of the study for the response to the recruitment campaign.

Approximately 1,325 hours in the first year and 1,675 in the second year for a total of 3,000 over the course of the study for the additional screening to be selected for inclusion in the study.

Approximately 1,300 hours in the first year and 1,625 in the second year for a total of 2,925 hours over the course of the study for participant training.

Approximately 3,000 hours in the first year and 3,750 in the second year for a total of 6,750 hours over the course of the study for the installation and removal of the on-board computer systems to and from the participants' vehicles.

Approximately 2,100 hours in the first year and 2,625 hours in the second year for a total of 4,725 hours over the course of the study for the survey collections.

Total annual burden hours in the first year are expected to be 8,277. Total annual burden hours in the second year are expected to be 10,373 for a total of 18,650 hours over the course of the study.

Electronic Access: Internet users may access all comments received by the U.S. DOT Dockets, Room PL-401, by using the universal resource locator (URL): http://dms.dot.gov, 24 hours each day, 365 days each year. Please follow the instructions online for more information and help.

Authority: The Paperwork Reduction Act of 1995; 44 U.S.C. Chapter 35, as amended; and 49 CFR 1.48.

Issued On: October 3, 2006.
James R. Kabel,
Chief, Management Programs and Analysis Division.

[FR Doc. E6-16683 Filed 10-10-06; 8:45 am]

BILLING CODE 4910-22-P